FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 13507N.

Name: Cargo Carriers Ltd.

Address: 3729 Union Road, Suite 17, Cheektowaga, NY 14225-4246.

Date Revoked: July 20, 2003.

Reason: Failed to maintain a valid bond.

License Number: 17882N.

Name: Clarke International Services Inc.

Address: 359 N. Oak Street, Inglewood, CA 90302.

Date Revoked: August 21, 2003.

Reason: Surrendered license voluntarily.

License Number: 16743N.

Name: Courtney International Forwarding Inc.

Address: 372 Doughty Boulevard, 2nd Floor, Inwood, NY 11096.

Date Revoked: August 18, 2003.

Reason: Surrendered license voluntarily.

License Number: 16813F.

Name: Exim Forwarding, Inc.

Address: 8050 Harrisburg, Houston, TX 77012.

Date Revoked: August 6, 2003.

Reason: Failed to maintain a valid bond.

License Number: 18254N.

Name: Full Service Logistics, Inc.

Address: 2029 E. Cashdan Street, Rancho Dominguez, CA 90220.

Date Revoked: August 16, 2003.

Reason: Failed to maintain a valid bond.

License Number: 13579N.

Name: JCW International Group, Inc. dba JCW Freight Systems dba JCW Container Line.

Address: 131 South Maple Avenue, Unit 7, South San Francisco, CA 94080.

Date Revoked: July 12, 2003.

Reason: Failed to maintain a valid bond.

License Number: 283N.

Name: Saima Avendero USA, Inc.

Address: 550 Broad Street, Suite 1001, Newark, NJ 07102.

Date Revoked: August 4, 2003.

Reason: Surrendered license voluntarily.

Sandra L. Kusumoto,
Director, Bureau of Consumer Complaints and Licensing.

[FR Doc. 03-23786 Filed 9-17-03; 8:45 am]

BILLING CODE 6730-01-P